DEPARTMENT OF HOMELAND SECURITY

Federal Emergency Management Agency

[Docket ID FEMA-2017-0002; Internal Agency Docket No. FEMA-B-1717]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Flood Insurance Rate Maps (FIRMs), and where applicable, portions of the Flood Insurance Study (FIS) report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 2, 2017.
Roy E. Wright,
Deputy Associate Administrator for Insurance and Mitigation, Department of Homeland Security, Federal Emergency Management Agency.

State and county | Location and case No. | Chief executive officer of community | Community map repository | Online location of letter of map revision | Effective date of modification | Community No.
Alabama:
St. Clair | City of Springville (16-04-8225P) | The Honorable William Isley, Jr., Mayor, City of Springville, 160 Walker Drive, Springville, AL 35146 | City Hall, 6327 U.S. Highway 11, Springville, AL 35146 | http://www.msc.fema.gov/lomc | July 14, 2017 | 010289
St. Clair | Unincorporated areas of St. Clair County (16-04-8225P) | The Honorable Paul Manning, Chairman, St. Clair County Board of Commissioners, 165 5th Avenue, Suite 100, Ashville, AL 35953 | St. Clair County Courthouse, 100 6th Avenue, Suite 400, Ashville, AL 35953 | http://www.msc.fema.gov/lomc | July 14, 2017 | 010290
Shelby | City of Helena (16-04-8436P) | The Honorable Mark R. Hall, Mayor, City of Helena, 816 Highway 52 East, Helena, AL 35080 | City Hall, 816 Highway 52 East, Helena, AL 35080 | http://www.msc.fema.gov/lomc | July 24, 2017 | 010294
Arkansas: Benton | Unincorporated areas of Benton County (17-06-0070P) | The Honorable Barry Moehring, Benton County Judge, 215 East Central Avenue, Bentonville, AR 72712 | Benton County Department of Development, 905 Northwest 8th Street, Bentonville, AR 72712 | http://www.msc.fema.gov/lomc | July 20, 2017 | 050419
Colorado: Douglas | Town of Castle Rock (17-08-0328P) | The Honorable Jennifer Green, Mayor, Town of Castle Rock, 100 North Wilcox Street, Castle Rock, CO 80104 | Water Department, 175 Kellogg Court, Castle Rock, CO 80109 | http://www.msc.fema.gov/lomc | Aug. 4, 2017 | 080050
Connecticut:
Fairfield | City of Norwalk (17-01-0383P) | The Honorable Harry W. Rilling, Mayor, City of Norwalk, 125 East Avenue, Norwalk, CT 06851 | Planning and Zoning Department, 125 East Avenue, Norwalk, CT 06851 | http://www.msc.fema.gov/lomc | June 29, 2017 | 090012
New Haven | City of New Haven (17-01-0377P) | The Honorable Toni Harp, Mayor, City of New Haven, 165 Church Street, New Haven, CT 06510 | Planning Department, 165 Church Street, New Haven, CT 06510 | http://www.msc.fema.gov/lomc | June 29. 2017 | 090084
Florida:
Collier | City of Marco Island (17-04-0636P) | The Honorable Larry Honig, Chairman, City of Marco Island Council, 50 Bald Eagle Drive, Marco Island, FL 34145 | City Hall, 50 Bald Eagle Drive, Marco Island, FL 34145 | http://www.msc.fema.gov/lomc | July 27, 2017 | 120426
Lee | City of Sanibel (17-04-0681P) | The Honorable Kevin Ruane, Mayor, City of Sanibel, 800 Dunlop Road, Sanibel, FL 33957. | Planning and Code Enforcement Department, 800 Dunlop Road, Sanibel, FL 33957 | http://www.msc.fema.gov/lomc | Aug. 3, 2017 | 120402
Lee | City of Sanibel (17-04-1647P) | The Honorable Kevin Ruane, Mayor, City of Sanibel, 800 Dunlop Road, Sanibel, FL 33957 | Planning and Code Enforcement Department, 800 Dunlop Road, Sanibel, FL 33957 | http://www.msc.fema.gov/lomc | July 31, 2017 | 120402
Orange | Unincorporated areas of Orange County (16-04-7503P) | The Honorable Teresa Jacobs, Mayor, Orange County, 201 South Rosalind Avenue, 5th Floor, Orlando, FL 32801 | Orange County Stormwater Management Division, 4200 South John Young Parkway, Orlando, FL 32839 | http://www.msc.fema.gov/lomc | July 21, 2017 | 120179
Osceola | City of Kissimmee (17-04-1694P) | The Honorable Jose A. Alvarez, Mayor, City of Kissimmee, 101 Church Street, Kissimmee, FL 34741 | Public Works and Engineering Department, 101 Church Street, Kissimmee, FL 34741 | http://www.msc.fema.gov/lomc | Aug. 4, 2017 | 120190
Osceola | Unincorporated areas of Osceola County (17-04-1694P) | The Honorable Brandon Arrington, Chairman, Osceola County Board of Commissioners, 1 Courthouse Square, Suite 4700, Kissimmee, FL 34741 | Osceola County Development Review Department ,1 Courthouse Square, Kissimmee, FL 34741 | http://www.msc.fema.gov/lomc | Aug. 4, 2017 | 120189
Sarasota | Unincorporated areas of Sarasota County (17-04-0650P) | The Honorable Paul Caragiulo, Chairman, Sarasota County Board of Commissioners, 1660 Ringling Boulevard, Sarasota, FL 34236 | Sarasota County Development Services Department, 1001 Sarasota Center Boulevard, Sarasota, FL 34240 | http://www.msc.fema.gov/lomc | July 27, 2017 | 125144
Massachusetts: Essex | Town of Nahant (16-01-2425P) | Mr. Jeff A. Chelgren, Administrator, Town of Nahant, 334 Nahant Road, Nahant, MA 01908 | Town Hall, 334 Nahant Road, Nahant, MA 01908 | http://www.msc.fema.gov/lomc | July 7, 2017 | 250095
North Carolina:
Jackson | Town of Dillsboro (16-04-8525P) | The Honorable Mike Fitzgerald, Mayor, Town of Dillsboro, P.O. Box 1088, Dillsboro, NC 28725 | Town Hall, 42 Front Street, Dillsboro, NC 28725 | http://www.msc.fema.gov/lomc. | Aug. 4, 2017 | 370136
Jackson | Unincorporated areas of Jackson County (16-04-8525P) | The Honorable Brian T. McMahan, Chairman, Jackson County Board of Commissioners, 401 Grindstaff Cove Road, Sylva, NC 28779. | Jackson County Justice and Administration Department, 401 Grindstaff Cove Road, Sylva, NC 28779 | http://www.msc.fema.gov/lomc | Aug. 4, 2017 | 370282
Wake | City of Raleigh (16-04-4436P) | The Honorable Nancy McFarlane, Mayor, City of Raleigh, P.O. Box 590, Raleigh, NC 27602 | Stormwater Management Division, 1 Exchange Plaza, Suite 304, Raleigh, NC 27601. | http://www.msc.fema.gov/lomc | July 25, 2017 | 370243
Tennessee:
Williamson | City of Franklin (16-04-8246P) | The Honorable Ken Moore, Mayor, City of Franklin, 109 3rd Avenue South, Franklin, TN 37064 | City Hall, 109 3rd Avenue South, Franklin, TN 37064 | http://www.msc.fema.gov/lomc | July 7, 2017 | 470206
Williamson. | City of Franklin (17-04-0761P) | The Honorable Ken Moore, Mayor, City of Franklin, 109 3rd Avenue South, Franklin, TN 37064 | City Hall, 109 3rd Avenue South, Franklin, TN 37064. | http://www.msc.fema.gov/lomc | July 5, 2017 | 470206
Williamson | Unincorporated areas of Williamson County (16-04-8246P) | The Honorable Rogers Anderson, Mayor, Williamson County Board of Commissioners, 1320 West Main Street, Suite 125, Franklin, TN 37064 | Williamson County Engineering Department, 1320 West Main Street, Suite 400, Franklin, TN 37064 | http://www.msc.fema.gov/lomc | July 7, 2017 | 470204
Texas:
Collin | City of Dallas (17-06-0184P). | The Honorable Michael S. Rawlings, Mayor, City of Dallas, 1500 Marilla Street, Suite 5EN, Dallas, TX 75201 | Engineering Department 320 East Jefferson Boulevard, Suite 200, Dallas, TX 75203 | http://www.msc.fema.gov/lomc | July 10, 2017 | 480171
Collin | Unincorporated areas of Collin County (16-06-4303P) | The Honorable Keith Self, Collin County Judge, 2300 Bloomdale Road, Suite 4192, McKinney, TX 75071 | Collin County Engineering Department, 4690 Community Avenue, Suite 200, McKinney, TX 75091 | http://www.msc.fema.gov/lomc | July 17, 2017 | 480130
Dallas | City of Dallas (16-06-3968P) | The Honorable Michael S. Rawlings, Mayor, City of Dallas, 1500 Marilla Street, Suite 5EN, Dallas, TX 75201 | Engineering Department 320 East Jefferson Boulevard, Suite 200, Dallas, TX 75203 | http://www.msc.fema.gov/lomc. | July 10, 2017 | 480171
Guadalupe | City of Schertz (16-06-4291P) | The Honorable Michael Carpenter, Mayor, City of Schertz, 1400 Schertz Parkway, Schertz, TX 78154 | Public Works Department, 10 Commercial Place, Schertz, TX 78154 | http://www.msc.fema.gov/lomc | July 28, 2017 | 480269
Kendall | City of Boerne (16-06-2380P) | Mr. Ronald Bowman, Manager, City of Boerne, 402 East Blanco Road, Boerne, TX 78006 | City Hall, 402 East Blanco Road, Boerne, TX 78006 | http://www.msc.fema.gov/lomc | Aug. 2, 2017 | 480418
Kendall | Unincorporated areas of Kendall County (16-06-2380P) | The Honorable Darrel L. Lux, Kendall County Judge, 201 East San Antonio Avenue, Suite 122, Boerne, TX 78006 | Kendall County Planning Department, 201 East San Antonio Avenue, Suite 101, Boerne, TX 78006 | http://www.msc.fema.gov/lomc. | Aug. 2, 2017 | 480417
Tarrant | City of Haltom City (16-06-3443P) | The Honorable David Averitt, Mayor, City of Haltom City, 5024 Broadway Avenue, Haltom City, TX 76117 | Public Works Department, 4200 Hollis Street, Haltom City, TX 76111 | http://www.msc.fema.gov/lomc. | Aug. 3, 2017 | 480599

[FR Doc. 2017-10167 Filed 5-25-17; 8:45 am]

BILLING CODE 9110-12-P